DEPARTMENT OF COMMERCE

International Trade Administration

[A-588-846]

Certain Hot-Rolled Flat-Rolled Carbon-Quality Steel Products from Japan: Rescission of Antidumping Duty Administrative Review

AGENCY: Import Administration, International Trade Administration, U.S. Department of Commerce.

SUMMARY: The Department of Commerce (the Department) has found no evidence that there were entries, exports, or sales of subject merchandise by respondent Kawasaki Steel Corporation (Kawasaki) during the current period of review (POR). Consequently, in accordance with 19 CFR 351.213(d)(3), the Department is rescinding this administrative review.

EFFECTIVE DATE: May 8, 2002.

FOR FURTHER INFORMATION CONTACT: Doug Campau, AD/CVD Enforcement Group III, Office 7, Import Administration, International Trade Administration, U.S. Department of Commerce, 14th Street and Constitution Avenue, N.W., Washington D.C. 20230; telephone (202) 482-1395.

SUPPLEMENTARY INFORMATION:

Applicable Statute and Regulations

Unless otherwise indicated, all citations are references to the provisions of the Tariff Act of 1930, as amended (the Act). In addition, unless otherwise indicated, all citations to the Department's regulations are to the provisions codified at 19 CFR Part 351 (2001).

Background

On June 29, 1999, the Department published in the Federal Register the antidumping duty order on certain hot-rolled flat-rolled carbon-quality steel flat products from Japan. See Antidumping Duty Order; Certain Hot-Rolled Flat-Rolled Carbon-Quality Steel Products From Japan, 64 FR 34778. In response to a timely request from petitioners, Bethlehem Steel Corporation, LTV Steel Company, Inc., and United States Steel Corporation, previously known as U.S. Steel Group, a unit of USX Corporation, filed in accordance with19 CFR 351.213(b), the Department initiated an administrative review of this antidumping duty order. See Initiation of Antidumping and Countervailing Duty Administrative Reviews and Requests for Revocation in Part, (66 FR 38252, July 23, 2001). This review covers one manufacturer/exporter of the subject merchandise, Kawasaki, for the period of June 1, 2000 through May 31, 2001.

On September 4, 2001, Kawasaki submitted a letter to the Department stating that it did not have any reviewable or reportable U.S. sales, entries, or shipments of subject merchandise during the POR. The Department reviewed data on entries under the order during the POR from the U.S. Customs Service. Our review of this data revealed no imports of the subject merchandise produced and/or exported by Kawasaki.

Pursuant to our regulations, the Department may rescind an administrative review, “if the Secretary concludes that, during the period covered by the review, there were no entries, exports, or sales of the subject merchandise, as the case may be.” 19 CFR § 351.213(d)(3). On April 18, 2002, we faxed all parties a memorandum stating our intent to rescind this review because there are no reviewable sales, shipments or entries. See Memorandum from Doug Campau to The File: Certain Hot-Rolled Flat-Rolled Carbon-Quality Steel Flat Products from Japan: Notification to Interested Parties of Intent to Rescind, dated April 18, 2002. We have not received any comments. Because we have found no evidence that there were entries, exports, or sales of the subject merchandise by Kawasaki during the current POR, the Department is rescinding this administrative review in accordance with 19 CFR § 351.213(d)(3). The Department will issue appropriate assessment instructions to the U.S. Customs Service.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This determination and notice are issued and published in accordance with 19 CFR § 351.213(d)(4) and sections 751(a)(1) and 777(i)(1) of the Act.

Dated: May 1, 2002
Faryar Shirzad,
Assistant Secretary for Import Administration.

[FR Doc. 02-11466 Filed 5-7-02; 8:45 am]

BILLING CODE 3510-DS-S